DEPARTMENT OF HOUSING AND URBAN DEVELOPMENT

[Docket No. FR-5683-N-39]

Notice of Proposed Information Collection for Public Comment; Request Voucher for Grant Payment and Line of Credit Control System (LOCCS) Voice Response System Access

AGENCY: Office of the Chief Financial Officer, HUD.

ACTION: Notice of proposed information collection.

SUMMARY: The proposed information collection requirement described below will be submitted to the Office of Management and Budget (OMB) for review, as required by the Paperwork Reduction Act. HUD is soliciting public comments on the subject proposal. Payment request vouchers for distribution of grant funds using the automated Voice Response System (VRS). An authorization form is submitted to establish access to the voice activated payment system.

DATES: Comments Due Date: July 29, 2013.

ADDRESSES: Interested persons are invited to submit comments regarding this proposal. Comments should refer to the proposal by name and/or OMB Control number and sent to: Colette Pollard, Reports Management Officer, QDAM, Department of Housing and Urban Development, 451 7th Street SW., Room 4176, Washington, DC 20410-5000; telephone 202.402.5564 (this is not a toll-free number) or email at Colette.Pollard@hud.gov for a copy of the proposed forms or other available information. Persons with hearing or speech impairments may access this number through TTY by calling the toll-free Federal Information Service at (800) 877-8339. (Other than the HUD USER information line and TTY numbers, telephone numbers are not toll-free.)

FOR FURTHER INFORMATION CONTACT: Colette Pollard, Reports Management Officer, QDAM, Department of Housing and Urban Development, 451 7th Street SW., Room 4176, Washington, DC; telephone 202 402-3400, for copies of other available documents (this is not a toll-free number.)

SUPPLEMENTARY INFORMATION: HUD will submit the proposed information collection to the Office of Management and Budget (OMB) for review, as required by the Paper Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title Of Proposal: Request Voucher for Grant Payment and Line of Credit Control System (LOCCS) Voice Response System Access.

OMB Control Number: 2535-0102.

Description of the need for the information and proposed use: Payment request vouchers for distribution of grant funds using the automated Voice Response System (VRS). An authorization form is submitted to establish access to the voice activated payment system.

Agency form number, if applicable: Form HUD-27054, HUD-27053.

Members of affected public: State or Local Government; Public Housing Agencies (PHAs), Individuals or Households.

Estimation of the Total number of hours needed to prepare the information collection including number of respondents, frequency of response, and hours of response:

Information collection | Number of respondents | Frequency of response | Responses per annum | Burden hour per response | Annual burden hours | Hourly cost per response | Annual cost
HUD-27053 | 2,420 | 115 | 278,300 | 0.17 | 47,311 | $20 | $946,220
HUD-27054 | 2,420 | 1 | 2,420 | 0.17 | 411 | 20 | 8,220
Total |  |  |  |  | 47,722 | 20 | 954,440

Status of the Proposed Information Collection: Extension of a previously approved collection.

Authority: The Paperwork Reduction Act of 1995, 44 U.S.C. Chapter 35, as amended.

Dated: May 21, 2013.
Colette Pollard,
Departmental Reports Management Officer, QDAM.

[FR Doc. 2013-12599 Filed 5-24-13; 8:45 am]

BILLING CODE 4210-67-P